DEPARTMENT OF LABOR

Employment and Training Administration

[TA-W-40,521]

Republic Technologies, International Currently Known as Republic Engineered Products Headquartered in Akron, OH, Including Facilities in the Following Locations:

TA-W-40,521A Massillon, OH (Central Machine),

TA-W-40,521B Chicago, IL (Chicago Plant),

TA-W-40,521C Blasdell, NY (Lackawanna Plant),

TA-W-40,521E Massillon, OH (Hot Rolled Plant),

TA-W-40,521F Beaver Falls, PA,

TA-W-40,521G Gary, IN (E. Dune Hwy),

TA-W-40,521H Gary, IN (E. Seventh Ave.),

TA-W-40,521I Harvey, IL,

TA-W-40,521J Massillon, OH (Cold Finished Plant), and

TA-W-40,521K Canton, OH (Canton Special Metals Plant); Amended Certification Regarding Eligibility to Apply for Worker Adjustment Assistance

In accordance with section 223 of the Trade Act of 1974 (19 U.S.C. 2273) the Department of Labor issued a Certification of Eligibility to Apply for Worker Adjustment Assistance on February 19, 2002, applicable to workers of Republic Technologies International located in Lorain, Ohio. The notice was published in the Federal Register on February 28, 2002 (67 FR 9325). The certification was amended on May 6, 2003 to reflect the change in ownership and include workers of Republic Engineered Products, Lorain, Ohio (TA-W-40,521D). The notice was published in the Federal Register on May 19, 2003 (68 FR 27110-27111).

At the request of the company, the Department reviewed the certification for workers of the subject firm. The workers produce hot rolled steel bars. The company reports that Republic Technologies International was purchased by Republic Engineered Products in August 2002 and that workers wages are reported under the Unemployment Insurance tax account for the new owner.

Accordingly, the Department is amending the certification to reflect the change in ownership.

The intent of the Department's certification is to include all workers of the firm adversely impact by increased imports of steel bars.

The amended notice applicable to TA-W-40,521 is hereby issued as follows:

“All workers of Republic Technologies International, currently known as Republic Engineered Products, headquartered in Akron, Ohio, including the following facilities producing hold rolled steel: Central Machine/Fabrication and Massillon Hot Rolled Plant, Massillon, Ohio; Chicago Plant, Chicago, Illinois; Lackawanna Plant, Blasdell, New York; Lorain Hot Rolled Bar Plant, Lorain, Ohio, and the following facilities producing cold finished steel: Beaver Falls Cold Finished plant, Beaver Falls, Pennsylvania; Gary Cold Finished Plants (E. Dunes Hwy and E. Seventh Ave.), Gary, Indiana; Harvey Cold Finished Plant, Harvey, Illinois and Massillon Cold Finished Plant, Massillon, Ohio, who became totally or partially separated from employment on or after November 19, 2000, through February 19, 2004, are eligible to apply for adjustment assistance under Section 223 of the Trade Act of 1974.”

Signed at Washington, DC this 23rd day of October, 2003.
Richard Church,
Certifying Officer, Division of Trade Adjustment Assistance.

[FR Doc. 03-29136 Filed 11-21-03; 8:45 am]

BILLING CODE 4510-30-M